DEPARTMENT OF AGRICULTURE

Natural Resources Conservation Service

Public Meeting Will allow Interested Parties To Comment on the Activities of the Resource Conservation and Development Program

AGENCY: Natural Resources Conservation Service, USDA.

ACTION: Notice of meeting.

SUMMARY: The Department of Agriculture's Natural Resources Conservation Service (NRCS) will hold a meeting to solicit comments on the activities of the Resource Conservation and Development (RC&D) Program. Section 2504 of the Farm Security and Rural Investment Act of 2002 (Pub. L. 107-171) requires that the Secretary of Agriculture, in consultation with the National Association of Resource Conservation and Development Councils (NAR&DC), evaluate RC&D to determine whether it is effectively meeting the needs of, and purposes identified by States, units of government, Indian tribes, non-profit organizations, and councils participating in, or served by, the program. The Secretary of Agriculture, acting through NRCS, will conduct this evaluation, and submit to the Committee on Agriculture of the U.S. House of Representatives and the Committee on Agriculture, Nutrition, and Forestry of the Senate a report describing the results of the evaluation, together with any recommendations of the Secretary for continuing, terminating, or modifying the program, by June 30, 2005.

As part of this evaluation, NRCS is conducting public meetings, with all interested parties, to solicit comments on the activities of the program. Comments will be solicited on, and should be limited to, the following topics: (1) RC&D effectiveness in meeting the needs of the States, units of government, Indian tribes, non-profit organizations, and RC&D councils served by the program; (2) RC&D effectiveness in developing community leadership; (3) RC&D Program elements that best serve regional conservation and development needs; and (4) RC&D Program elements that can be strengthened to better serve regional conservation and development needs.

EFFECTIVE DATES: The schedule for the remaining three listening sessions is as follows:

• September 2, 2004—Ogleby Resort and Conference Center, Wheeling, West Virginia, 1 p.m.-4:30 p.m.

• September 22, 2004—Savannah Marriott Riverfront Hotel, Savannah, Georgia, 2 p.m.-5 p.m.

• September 28, 2004—Campbell Resort, Chelan, Washington, 9 a.m.-12 p.m.

Written comments may also be submitted, no later than September 30, 2004, to Terry D'Addio, National RC&D Program Manager, Natural Resources Conservation Service, 1400 Independence Avenue, SW., Room 312, Cotton Annex Building, Washington, DC 20250.

FOR FURTHER INFORMATION CONTACT: Terry D'Addio, Natural Resources Conservation Service, telephone: (202) 720-0557; fax (202) 690-0639; e-mail: Terry.d'addio@usda.gov.

Signed in Washington, DC on August 23, 2004.
Bruce I. Knight,
Chief, Natural Resources Conservation Service.

[FR Doc. 04-20094 Filed 9-2-04; 8:45 am]

BILLING CODE 3410-16-P